DEPARTMENT OF THE INTERIOR

Fish and Wildlife Service

[FWS-R4-ES-2008-NOXXX; 40120-1113-0000-C2]

Notice of Availability of the Puerto Rican Parrot Recovery Plan

AGENCY: Fish and Wildlife Service, Interior.

ACTION: Notice of document availability.

SUMMARY: We, the Fish and Wildlife Service, announce the availability of the revised recovery plan for the Puerto Rican Parrot (Amazona vittata). The revised recovery plan includes specific recovery objectives and criteria to be met in order to reclassify this species to threatened status and delist it under the Endangered Species Act of 1973, as amended (Act).

ADDRESSES: You can obtain copies of the Puerto Rican Parrot Recovery Plan by contacting the Río Grande Field Station, U.S. Fish and Wildlife Service, P.O. Box 1600, Río Grande, Puerto Rico 00745 (telephone (787) 887-8769 Ext. 224) or by visiting our Web site at http://endangered.fws.gov/recovery/index.html#plans.

FOR FURTHER INFORMATION CONTACT: Marisel López at the above address (Telephone 787/887-8769, ext. 224).

SUPPLEMENTARY INFORMATION:

Background

Once abundant and widespread on the Puerto Rican archipelago, the Puerto Rican parrot is considered one of the ten most endangered birds in the world. Largely green with a red forehead and blue flight feathers, the parrot is one of nine Amazona parrots occurring in the West Indies. The species is one of the smallest in its genus. Presently, a minimum of 25-28 individuals survive in the wild in the El Yunque National Forest (YNF) in eastern Puerto Rico and 22-28 in the Río Abajo Forest (RAF) in north central Puerto Rico. Two captive population facilities hold more than 228 individuals: the Iguaca Aviary and the José L. Vivaldi Aviary in eastern and west-central Puerto Rico, respectively.

The Puerto Rican parrot is a fruit-eating cavity nester seldom seen far from forests. Due to its nesting requirements, it depends on mature forests with large cavity-forming trees. The decline of the parrot and its restricted distribution are due to many factors, but mostly due to widespread habitat loss (e.g., deforestation.)

At present, in addition to low numbers and a limited distribution, major threats to this species are nest competition and predation of eggs and chicks, predation of fledglings and adults, parasitism, and the impact of hurricanes. Many of the threats are being controlled through management strategies.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act (16 U.S.C. 1533 et seq.) requires the development of recovery plans for listed species, unless such a plan would not promote the conservation of a particular species. Section 4(f) of the Act requires us to provide a public notice and an opportunity for public review and comment during recovery plan development. We made the draft revision of the Puerto Rican Parrot recovery plan available for public comment from June 17, 2008 through August 18, 2008 (73 FR 34313). We considered information we received during the public comment period and information from peer reviewers in our preparation of this final revised recovery plan. We will forward substantive comments to other Federal agencies so each agency can consider these comments in implementing approved recovery plans.

The objective of this revised plan is to provide a framework for the recovery of the Puerto Rican parrot, so that protection under the Act is no longer necessary. The plan presents criteria for reclassifying and delisting the parrot. As these criteria are met, the status of the species will be reviewed and it will be considered for reclassification or removal from the Federal List of Endangered and Threatened Wildlife and Plants.

Authority: The authority for this action is section 4(f) of the Endangered Species Act, 16 U.S.C. 1533 (f).

Dated: April 14, 2009.
Jacquelyn B. Parrish,
Acting Regional Director.

[FR Doc. E9-14217 Filed 6-16-09; 8:45 am]

BILLING CODE 4310-55-P